COMMITTEE FOR PURCHASE FROM PEOPLE WHO ARE BLIND OR SEVERELY DISABLED

Procurement List; Additions and Deletion

AGENCY: Committee for Purchase from People Who Are Blind or Severely Disabled.

ACTION: Additions to and deletions from Procurement List.

SUMMARY: This action adds to the Procurement List services to be furnished by nonprofit agencies employing persons who are blind or have other severe disabilities, and deletes from the Procurement List products previously furnished by such agencies.

DATES: Effective Date: August 22, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On May 14, May 21, and May 28, 2004, the Committee for Purchase From People Who Are Blind or Severely Disabled published notice (69 FR 26805, 29261, and 30609) of proposed additions to the Procurement List.

The following comments pertain to Mechanical Maintenance at four locations in New Jersey.

Comments were received from an Alaska Native small disadvantaged business. The commenter indicated it had responded to a Sources Sought Notice posted by the Government contracting office responsible for these services, and that it had several contacts with that office concerning award of a contract for these services to the company. The commenter claimed that it is improper for the services to be added to the Procurement List while a small disadvantaged business is attempting to obtain a contract for the services.

The Committee contacted the Government contracting office, which confirmed that it had issued the Sources Sought Notice as claimed by the contractor. However, this Notice did not make any commitment to award a contract to any firm which responded to the notice. Furthermore, the contracting office did not make any commitment to award a contract to the commenter. Under these circumstances, the Committee does not believe that it is improper to add these services to the Procurement List.

The following material pertains to all of the items being added to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial & Grounds Maintenance, Avery Street Building, Public Debt Facility, 320 Avery Street, Parkersburg, West Virginia.

NPA: SW Resources, Inc., Parkersburg, West Virginia.

Contract Activity: Bureau of Public Debt, Parkersburg, West Virginia.

Service Type/Location: Food Service, Volk Field Air National Guard, Camp Douglas, Wisconsin.

NPA: Challenge Unlimited, Inc., Alton, Illinois.

Contract Activity: Iowa Air National Guard, Des Moines Iowa.

Service Type/Location: Janitorial/Custodial, Naval & Marine Corps Reserve Center, 3463 Barnes Avenue, Roanoke, Virginia.

NPA: Goodwill Industries of the Valleys, Inc., Salem, Virginia.

Contract Activity: Naval Facilities Engineering Command Contracts, Norfolk, Virginia.

Service Type/Location: Mechanical Maintenance, Martin Luther King Federal Building & U.S. Courthouse, Newark, New Jersey; Paterson Federal Building, Paterson, New Jersey; Peter W. Rodino Federal Office Building, Newark, New Jersey; Veterans Administration Building, Newark, New Jersey.

NPA: Fedcap Rehabilitation Services, Inc., New York, New York.

Contract Activity: GSA, PBS—NJ Property Management Center, Newark, New Jersey.

Deletion

On April 2, 2004, the Committee for Purchase From People Who Are Blind or Severely Disabled published notice (69 FR 17391) of proposed deletions to the Procurement List. After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Product/NSN: Tray, Repositional Note Pad, 7520-01-207-4351.

NPA: L.C. Industries For The Blind, Inc., Durham, North Carolina.

Contract Activity: Office Supplies & Paper Products Acquisition Center, New York, New York.

Sheryl D. Kennerly,
Director, Information Management.

[FR Doc. 04-16871 Filed 7-22-04; 8:45 am]

BILLING CODE 6353-01-P